DEPARTMENT OF THE INTERIOR

Bureau of Land Management

[CO-01-134-1610-241A]

Colorado Canyons National Conservation Area Advisory Council Meeting

AGENCY: Bureau of Land Management, Interior.

ACTION: Notice of meetings.

SUMMARY: The Colorado Canyons National Conservation Area (CCNCA) Advisory Council will hold its first monthly meeting of 2003 on January 9, 2003. The meeting will begin at 3 p.m. and will be held at the Mesa County Administration Building; 544 Rood Avenue, Grand Junction, CO; in the main floor Multipurpose Room. Throughout the remainder of calendar year 2003, the CCNCA Advisory Council meetings will be held the first Thursday of each month in the same location and at the same time. The CCNCA was established on October 24, 2000, when the Colorado Canyons National Conservation Area and Black Ridge Wilderness Act of 2000 (the Act) was signed by the President. The Act required that the CCNCA Advisory Council be established to provide advice in the preparation and implementation of the CCNCA resource management plan and environmental impact statement.

DATES: January 9, 2002.

ADDRESSES: For further information or to provide written comments, please contact Greg Gnesios, Bureau of Land Management (BLM), 2815 H Road, Grand Junction, Colorado 81506; Telephone (970) 244-3049; e-mail Gregory_Gnesios@co.blm.gov.

SUPPLEMENTARY INFORMATION: The CCNCA Advisory Council will meet on Thursday, January 9, 2003, at the Mesa County Administration Building; 544 Rood Avenue, Grand Junction, CO; in the main floor Multipurpose Room, Grand Junction, Colorado, beginning at 3 p.m. The agenda topics for this meeting are:

(1) The re-election of council officials.

(2) Recommendations from working groups.

(3) Land health recommendations.

(4) Public comment period.

(5) Agenda for next meeting.

Beginning February 2003 the CCNCA Advisory Council meetings will be held monthly on the first Thursday of each month at the same time and location. The dates for these meetings are February 6, 2003; March 6, 2003; April 3, 2003; May 1, 2003; June 5, 2003; July 3, 2003; August 7, 2003; September 4, 2003; October 2, 2003; November 6, 2003; and December 4, 2003.

Topics of discussion for future meetings will include recommendations on management alternatives, including the preferred management alternative, potential environmental consequences of all identified alternatives, completion of the draft resource management plan, partnerships, interpretation, adaptive management, socioeconomics, and other issues as appropriate.

All meetings will be open to the public and will include a time set aside for public comment. Interested persons may make oral statements at the meetings or submit written statements at any meeting. Per-person time limits for oral statements may be set to allow all interested persons an opportunity to speak.

Summary minutes of all Council meetings will be maintained at the Bureau of Land Management Office in Grand Junction, Colorado. They are available for public inspection and reproduction during regular business hours within 30 days of the meeting. In addition, minutes and other information concerning the CCNCA Advisory Council can be obtained from the CCNCA website at: http://www.co.blm.gov/cocanplan which will be updated following each Advisory Council meeting.

Dated: December 6, 2002.
Greg Gnesios,
Manager, Colorado Canyons National Conservation Area.

[FR Doc. 02-31415 Filed 12-12-02; 8:45 am]

BILLING CODE 4310-AG-P